DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Progress Report: Cooperative Minimization of the Incidental Catch of Pacific Halibut.

OMB Control Number: 0648-0697.

Form Number(s): None.

Type of Request: Regular (revision of a currently approved information collection).

Number of Respondents: 5.

Average Hours per Response: 40.

Burden Hours: 200.

Needs and Uses: This request is for revision of an existing information collection.

During its February 2014 meeting, the North Pacific Fisheries Management Council (Council) requested that Bering Sea and Aleutian Islands Management Area (BSAI) groundfish sectors (American Fisheries Act (AFA) Catcher/processor, AFA Catcher Vessel, Amendment 80, Freezer Longline Cooperative, and Community Development Quota) report (at the June Council meeting) on the progress of voluntary, non-regulatory actions implemented and recorded in their cooperative and/or inter-cooperative agreements to minimize halibut Prohibited Species Catch (PSC) through halibut avoidance, individual accountability, and use of incentives.

During its June 2014 meeting, the Council requested additional voluntary, non-regulatory information regarding the use of halibut PSC and halibut discards in the directed halibut fishery from these same five groundfish fishing sectors on actions taken to reduce halibut mortality and to report the effectiveness of those actions in absolute reductions in halibut mortality. These reports are to be provided to the Council at the February 2015 Council meeting.

Affected Public: Business or other for-profit organizations.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 12, 2014.
Glenna Mickelson,
Management Analyst, Office of the Chief Information Officer.

[FR Doc. 2014-27207 Filed 11-17-14; 8:45 am]

BILLING CODE 3510-22-P